DEPARTMENT OF VETERANS AFFAIRS

[OMB Control No. 2900-0766]

Agency Information Collection (Care Coordination Home Telehealth (CCHT) Patient Satisfaction Survey) Activities Under OMB Review

AGENCY: Veterans Health Administration, Department of Veterans Affairs.

ACTION: Notice.

SUMMARY: The Veterans Health Administration (VHA), Department of Veterans Affairs (VA), is announcing an opportunity for public comment on the proposed collection of certain information by the agency. Under the Paperwork Reduction Act (PRA) of 1995, Federal agencies are required to publish notice in the Federal Register concerning each proposed collection of information, including each new collection, and allow 60 days for public comment in response to the notice. This notice solicits comments on the information collection required to obtain patient perspective on satisfaction with the CCHT program and messaging devices.

DATES: Comments must be submitted on or before January 15, 2014.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0766” in any correspondence.

FOR FURTHER INFORMATION CONTACT: Crystal Rennie, Enterprise Records Service (005R1B), Department of Veterans Affairs, 810 Vermont Avenue NW, Washington, DC 20420, (202) 632-7492 or email crystal.rennie@va.gov. Please refer to “OMB Control No. 2900-0709, (Regulation on Reduction of Nursing Shortages in State Homes; Application for Assistance for Hiring and Retaining Nurses at State Homes).”

SUPPLEMENTARY INFORMATION:

Title: Care Coordination Home Telehealth (CCHT) Patient Satisfaction Survey, VA Form 10-0481.

Type of Review: Extension of a currently approved collection.

Abstract: Patients enrolled in the CCHT program will receive survey questions through a messaging device located in their home. Patients can select an answer by the use of buttons, a touch screen application or electronically spoken to them through an Interactive Voice Response if they are visually impaired.

An agency may not conduct or sponsor, and a person is not required to respond to a collection of information unless it displays a currently valid OMB control number. The Federal Register Notice with a 60-day comment period soliciting comments on this collection of information was published on Vol. 78 No. 168, at pages 53506-53507.

Affected Public: Individuals or households.

Estimated Annual Burden: 1640.

Estimated Average Burden per Respondent: 1.5 hours.

Frequency of Response: Quarterly.

Estimated Number of Respondents: 65,600.

Dated: December 11, 2013.
By direction of the Secretary.
Crystal Rennie,
VA Clearance Officer, U.S. Department of Veterans Affairs.

[FR Doc. 2013-29800 Filed 12-13-13; 8:45 am]

BILLING CODE 8320-01-P